DEPARTMENT OF TRANSPORTATION

Federal Motor Carrier Safety Administration

49 CFR Part 390

Rescission of Certain Emergency Exemptions

AGENCY: Federal Motor Carrier Safety Administration (FMCSA), DOT.

ACTION: Notice of rescission.

SUMMARY: The Federal Motor Carrier Safety Administration (FMCSA), after consultation with representatives of the governors of the affected States, rescinds certain covered emergency exemptions. The exemptions originally took effect automatically upon declaration of an emergency by various governors or FMCSA, and were extended by FMCSA after consultation with representatives of the governors. The President signed the “Home Heating Emergency Assistance Through Transportation Act of 2014” (HHEATT Act, or “the Act”) on March 21, 2014. The Act extends until May 31, 2014, all “covered emergency exemptions” created between February 5, 2014, and March 21, 2014, to provide regulatory relief to commercial motor vehicle operators directly supporting the delivery of propane and other home heating fuels. In accordance with the Act, FMCSA has consulted with representatives of each of the governors to determine whether emergency circumstances still exist and has determined that certain covered emergency exemptions created under the HHEATT Act are no longer necessary and should be rescinded.

DATES: This decision is effective April 10, 2014.

FOR FURTHER INFORMATION CONTACT: Mr. Thomas Yager, Chief, FMCSA Driver and Carrier Operations Division; Office of Carrier, Driver and Vehicle Safety Standards; Telephone: 202-366-4325. Email: MCPSD@dot.gov.

SUPPLEMENTARY INFORMATION:

Background

On March 21, 2014, the President signed the HHEATT Act. The Act extends until May 31, 2014, all “covered emergency exemptions” issued (or extended) by the Federal Motor Carrier Safety Administration (FMCSA) under 49 CFR 390.23 or 390.25 between February 5, 2014, and March 21, 2014, to provide regulatory relief to commercial motor vehicle operators directly supporting the delivery of propane and other home heating fuels “. . . unless the Secretary of Transportation, after consultation with the Governors of the affected States, determines that the emergency for which the exemption was provided ends before that date” [Section 2(a)].

The HHEATT Act revived or extended the Agency's emergency exemptions for 36 States and the District of Columbia. FMCSA has contacted the chief executives of these jurisdictions, or their designees, to inquire whether critical shortages of propane and other home heating fuels still persist, or whether the exemptions may no longer be needed.

Thirty States plus DC have replied that they are no longer experiencing shortages of propane and other home heating fuels. Six governors have indicated that fuel supplies in their States have not yet returned to normal and that they want the exemption to remain in effect [Illinois, Maryland, Minnesota, North Carolina, Pennsylvania and Virginia].

In accordance with Section 2(a) of the HHEATT Act, FMCSA rescinds, effective immediately, the emergency declarations or extensions issued between February 5, 2014, and March 21, 2014, for the following States and DC, which have reported that the exemptions are no longer needed:

Alabama

Arkansas

Connecticut

Delaware

District of Columbia

Florida

Georgia

Indiana

Iowa

Kansas

Kentucky

Louisiana

Maine

Massachusetts

Michigan

Mississippi

Missouri

Nebraska

New Hampshire

New Jersey

New York

North Dakota

Ohio

Oklahoma

Rhode Island

South Carolina

South Dakota

Tennessee

Vermont

West Virginia

Wisconsin

The emergency declaration extension will remain in effect until further notice, but in no circumstances, beyond May 31, 2014, for the following six States:

Illinois

Maryland

Minnesota

North Carolina

Pennsylvania

Virginia

Issued under authority delegated in 49 CFR 1.87.

Issued on: April 3, 2014.
Anne S. Ferro,
Administrator.

[FR Doc. 2014-08021 Filed 4-9-14; 8:45 am]

BILLING CODE 4910-EX-P